DEPARTMENT OF THE TREASURY

United States Mint

Notification of Citizens Coinage Advisory Committee September 2005 Public Meeting; Update

SUMMARY: This document updates a notice appearing in the Federal Register that announced a public meeting of the Citizens Coinage Advisory Committee (CCAC) scheduled for September 27, 2005, at the United States Mint in Washington, DC. This action is necessary to update the subject of the meeting as stated in the September 2, 2005 notice (70 FR 52484).

Date: September 27, 2005.

Time: 1 p.m. to 4 p.m.

Location: United States Mint, 801 9th Street, NW., Washington, DC 20220

Subject: Review designs for the Dr. Martin Luther King and Coretta Scott King Congressional Gold Medal and review CCAC Annual Report for 2005.

Interested persons should call 202-354-7502 for the latest update on meeting time and room location.

FOR FURTHER INFORMATION CONTACT: Madelyn Simmons Marchessault, United States Mint Liaison to the CCAC; 801 9th Street, NW., Washington, DC 20220; or call 202-354-7200.

Dated: September 14, 2005.
David A. Lebryk,
Acting Director, United States Mint.

[FR Doc. 05-18992 Filed 9-22-05; 8:45 am]

BILLING CODE 4810-37-P